DEPARTMENT OF THE INTERIOR

Fish and Wildlife Service

Endangered and Threatened Wildlife and Plants; 5-Year Review of 14 Southeastern Species

AGENCY: Fish and Wildlife Service, Interior.

ACTION: Notice.

SUMMARY: The U.S. Fish and Wildlife Service (Service) announces a 5-year review of the red wolf (Canis rufus), Appalachian elktoe (Alasmidonta raveneliana), Cumberland elktoe (Alasmidonta atropurpurea), Cumberland monkeyface (Quadrula intermedia), Cumberlandian combshell (Epioblasma brevidens), green blossom (Epioblasma torulosa gubernaculum), oyster mussel (Epioblasma capsaeformis), tubercled blossom (Epioblasma torulosa torulosa), turgid blossom (Epioblasma turgidula), yellow blossom (Epioblasma florentina florentina), painted snake coiled forest snail (Anguispira picta), dwarf-flowered heartleaf (Hexastylis naniflora), Schweinitz's sunflower (Helianthus schweinitzii), and seabeach amaranth (Amaranthus pumilus) under section 4(c)(2) of the Endangered Species Act of 1973, as amended (Act). The purpose of reviews conducted under this section of the Act is to ensure that the classification of species as threatened or endangered on the List of Endangered and Threatened Wildlife and Plants (50 CFR 17.11 and 17.12) is accurate. The 5-year review is an assessment of the best scientific and commercial data available at the time of the review.

DATES: To allow us adequate time to conduct this review, information submitted for our consideration must be received on or before November 21, 2005. However, we will continue to accept new information about any listed species at any time.

ADDRESSES: Information submitted on the red wolf should be sent to the U.S. Fish and Wildlife Service, Alligator River National Wildlife Refuge, P.O. Box 1969, Manteo, North Carolina 27954. Information submitted on the Appalachian elktoe, Cumberland monkeyface, dwarf-flowered heartleaf, Schweinitz's sunflower, or the tubercled blossom should be sent to the Field Supervisor, Asheville Field Office, U.S. Fish and Wildlife Service, 160 Zillicoa Street, Asheville, North Carolina 28801. Information submitted on the Cumberland elktoe, Cumberlandian combshell, green blossom, oyster mussel, painted snake coiled forest snail, turgid blossom or the yellow blossom should be sent to the Field Supervisor, Cookeville Field Office, U.S. Fish and Wildlife Service, 446 Neal Street, Cookeville, Tennessee 38501. Information on the seabeach amaranth should be sent to the Field Supervisor, Raleigh Field Office, P. O. Box 33726, Raleigh, North Carolina 27636-3726. Information received in response to this notice of review will be available for public inspection by appointment, during normal business hours, at the same addresses.

FOR FURTHER INFORMATION CONTACT: Buddy Fazio, Alligator River National Wildlife Refuge, North Carolina, address above for the red wolf (telephone (252) 473-1131), John Fridell at the Asheville, North Carolina address above for the Appalachian elktoe (telephone (828) 258-3939), Robert Butler at the Asheville, North Carolina address above for the Cumberland monkeyface or the tubercled blossom (telephone (828) 258-3939), Carolyn Wells at the Asheville, North Carolina address above for dwarf-flowered heartleaf or Schweinitz's sunflower (telephone (828) 258-3939), Tim Merritt at the Cookeville, Tennessee address above for the Cumberland elktoe, Cumberlandian combshell, green blossom, oyster mussel, painted snake coiled forest snail, turgid blossom or the yellow blossom (telephone (931) 528-6481), and Dale Suiter at the Raleigh, North Carolina address above for the seabeach amaranth (telephone (919) 856-4520).

SUPPLEMENTARY INFORMATION: Under the Act (16 U.S.C. 1533 et seq.), the Service maintains a list of endangered and threatened wildlife and plant species at 50 CFR 17.11 (for wildlife) and 17.12 (for plants) (collectively referred to as the List). Section 4(c)(2)(A) of the Act requires that we conduct a review of listed species at least once every five years. On the basis of such review, under section 4(c)(2)(B), we determine whether or not species should be removed from the List (delisted), or reclassified from endangered to threatened or from threatened to endangered. Delisting a species must be supported by the best scientific and commercial data available and only considered if such data substantiate that the species is neither endangered nor threatened for one or more of the following reasons: (1) The species is considered extinct; (2) the species is considered to be recovered; and/or (3) the original data available when the species was listed, or the interpretation of such data, were in error. Any change in Federal classification would require a separate rulemaking process. The regulations at 50 CFR 424.21 require that we publish a notice in the Federal Register announcing those species currently under active review. This notice announces our active review of the following species that are currently federally listed as endangered: Appalachian elktoe, red wolf, Cumberland monkeyface, Cumberland elktoe, Cumberlandian combshell, green blossom, oyster mussel, tubercled blossom, turgid blossom, yellow blossom, and Schweinitz's sunflower. This notice announces our active review of the following species that are currently federally listed as threatened: painted snake coiled forest snail, dwarf-flowered heartleaf and seabeach amaranth.

The List is found at 50 CFR 17.11 (wildlife) and 17.12 (plants) and is also available on our Internet site at http://endangered.fws.gov/wildlife.html#Species. Amendments to the List through final rules are published in the Federal Register.

What Information Is Considered in the Review?

A 5-year review considers all new information available at the time of the review. A 5-year review will consider the best scientific and commercial data that have become available since the current listing determination or most recent status review of each species, such as:

A. Species biology, including but not limited to population trends, distribution, abundance, demographics, and genetics;

B. Habitat conditions, including but not limited to amount, distribution, and suitability;

C. Conservation measures that have been implemented to benefit the species;

D. Threat status and trends (see five factors under heading “How do we determine whether a species is endangered or threatened?”); and

E. Other new information, data, or corrections, including but not limited to taxonomic or nomenclatural changes, identification of erroneous information contained in the List, and improved analytical methods.

Specific Information Requested for the Green Blossom, Yellow Blossom, and Turgid Blossom

Because collection of live or fresh dead individuals of all three species has not been reported for more than 20 years, we are especially interested in obtaining evidence of extant populations. We specifically request information regarding recent surveys in the following streams:

Virginia (green blossom): Clinch River, Powell River, North Fork Holston River, and North Fork Clinch River.

Tennessee (green blossom): Clinch River, Powell River, Holston River, Nolichucky River, and North Fork Clinch River.

Arkansas (turgid-blossom): Spring Creek, Black River, and White River.

Missouri (turgid-blossom): White River.

Alabama (turgid-blossom): Shoal Creek and Bear Creek.

Tennessee (turgid-blossom): Tennessee River, Elk River, Duck River, Holston River, Clinch River, Emory River, and Cumberland River.

Alabama (yellow-blossom): Flint River, Hurricane Creek, Limestone Creek, Bear Creek, and Cypress Creek.

Tennessee (yellow-blossom): Tennessee River, Elk River, Duck River, Holston River, Little Tennessee River, Citico Creek, Clinch River, and Cumberland River.

We also request information concerning changes in habitat conditions in the above-listed streams since the last reported collection of the green-blossom, yellow-blossom, and turgid-blossom. This information will enable us to determine whether or not populations of the species may still exist in one or more of those streams.

Specific Information Requested for the Cumberland Elktoe, Cumberlandian Combshell, and Oyster Mussel

We are especially interested in information on surviving populations of the Cumberland elktoe, Cumberlandian combshell and oyster mussel. We specifically request any recent information regarding the collection of live or fresh dead shells of these species, as well as information on their location, numbers, habitats and/or threats.

Specific Information Requested for the Painted Snake Coiled Forest Snail

We are especially interested in obtaining any data pertaining to previously known or newly discovered occurrences of the painted snake coiled forest snail or biological studies related to this species. We specifically request information regarding: potential threats arising from commercial, industrial, or residential development, timber harvesting, or other land use activities; conservation activities directed towards this species; and studies related to life history, genetics, and ecology of these animals, including sensitivity to seismic disturbance or limestone dust deposition that could result from quarrying operations.

Specific Information Requested for the Seabeach Amaranth

We are especially interested in information on population trends, distribution and genetics, as well as, the effects of beach nourishment projects on seabeach amaranth individuals, populations and habitat.

Definitions Related to This Notice

The following definitions are provided to assist those persons who contemplate submitting information regarding the species being reviewed:

A. Species includes any species or subspecies of fish, wildlife, or plant, and any distinct population segment of any species of vertebrate which interbreeds when mature.

B. Endangered means any species that is in danger of extinction throughout all or a significant portion of its range.

C. Threatened means any species that is likely to become an endangered species within the foreseeable future throughout all or a significant portion of its range.

How Do We Determine Whether a Species Is Endangered or Threatened?

Section 4(a)(1) of the Act establishes that we determine whether a species is endangered or threatened based on one or more of the following five factors:

A. The present or threatened destruction, modification, or curtailment of its habitat or range;

B. Overutilization for commercial, recreational, scientific, or educational purposes;

C. Disease or predation;

D. The inadequacy of existing regulatory mechanisms; or

E. Other natural or manmade factors affecting its continued existence. Section 4(a)(1) of the Act requires that our determination be made on the basis of the best scientific and commercial data available.

What Could Happen as a Result of This Review?

If we find that there is new information concerning any of these 14 species indicating that a change in classification may be warranted, we may propose a new rule that could do one of the following: (a) Reclassify the species from endangered to threatened (downlist); (b) reclassify the species from threatened to endangered (uplist); or (c) delist the species. If we determine that a change in classification is not warranted, then these species will remain on the List under their current status.

Public Solicitation of New Information

We request any new information concerning the status of these 14 species. See “What information is considered in the review?” heading for specific criteria. Information submitted should be supported by documentation such as maps, bibliographic references, methods used to gather and analyze the data, and/or copies of any pertinent publications, reports, or letters by knowledgeable sources. Our practice is to make comments, including names and home addresses of respondents, available for public review. Individual respondents may request that we withhold their home addresses from the supporting record, which we will honor to the extent allowable by law. There also may be circumstances in which we may withhold from the supporting record a respondent's identity, as allowable by law. If you wish us to withhold your name and/or address, you must state this prominently at the beginning of your comment. We will not consider anonymous comments, however. We will make all submissions from organizations or businesses, and from individuals identifying themselves as representatives or officials of organizations or businesses, available for public inspection in their entirety.

Authority: This document is published under the authority of the Endangered Species Act (16 U.S.C. 1531 et seq.).

Dated: August 25, 2005.
Jeffrey Fleming,
Acting Regional Director, Southeast Region.

[FR Doc. 05-18688 Filed 9-19-05; 8:45 am]

BILLING CODE 4310-55-P